DEPARTMENT OF ENERGY

Federal Energy Regulatory Commission

[Docket No. RP96-312-114]

Tennessee Gas Pipeline Company; Notice of Negotiated Rate Filing

October 9, 2002.

Take notice that on October 4, 2002, Tennessee Gas Pipeline Company (Tennessee), submitted for filing and approval an amendment to a Gas Transportation Agreement between Tennessee and eCORP Marketing, L.L.C., that has been previously accepted as a negotiated rate agreement. Tennessee requests that the Commission accept and approve the amendment to be effective on the later of October 1, 2002, or the date on which the Commission accepts and approves the amendment.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. The Commission strongly encourages electronic filings. See, 18 CFR 385.2001(a)(1)(iii) and the instructions on the Commission's web site under the “e-Filing” link.

Linwood A. Watson, Jr.,
Deputy Secretary.

[FR Doc. 02-26254 Filed 10-15-02; 8:45 am]

BILLING CODE 6717-01-P